DEPARTMENT OF COMMERCE

National Oceanic and Atmospheric Administration

50 CFR Part 679

[I.D. 053001D]

Groundfish Fisheries of the Bering Sea and Aleutian Islands Area and the Gulf of Alaska

AGENCY: National Marine Fisheries Service (NMFS), National Oceanic and Atmospheric Administration (NOAA), Commerce.

ACTION: Notice of intent to revise the Alaska Groundfish Fisheries Draft Programmatic Supplemental Environmental Impact Statement (SEIS).

SUMMARY: NMFS announces its intent to revise the Alaska Groundfish Fisheries draft Programmatic SEIS. After reviewing more than 21,000 comment letters received on the draft Programmatic SEIS, NMFS has determined that revisions to the draft Programmatic SEIS are appropriate and necessary. NMFS has also determined that these revisions will require the release of a revised draft Programmatic SEIS. Based on these decisions, NMFS announces a new date for the completion of the Programmatic SEIS and issuance of the Record of Decision based thereon.

DATES: See SUPPLEMENTARY INFORMATION for the dates concerning completion of the Alaska Groundfish Fisheries Programmatic SEIS. The December 2001 North Pacific Fishery Management Council (Council) meeting will be held December 5 through 10, 2001. Additional information concerning the agenda for the Council’s December 2001 meeting can be found at http://www.fakr.noaa.gov/npfmc.

ADDRESSES: The December 2001 North Pacific Fishery Management Council meeting will be held at the Hilton Hotel, Anchorage, AK.

FOR FURTHER INFORMATION CONTACT: Steven K. Davis, Programmatic SEIS Coordinator, Anchorage, Alaska, (907) 271-3523.

SUPPLEMENTARY INFORMATION: On January 26, 2001, NMFS released a draft of the Alaska Groundfish Fisheries Programmatic SEIS for a 90-day public review and comment period. As a result of NMFS granting requests by the interested public for two extensions of the public comment period, the comment period for the draft Programmatic SEIS ran for a total of 180 days and ended on July 25, 2001. As a result of this extended public comment period and the voluminous public comments received therein, NMFS determined that it would issue a final Programmatic SEIS for the Alaska groundfish fisheries during the summer of 2002 and a Record of Decision shortly thereafter.

NMFS received 21,361 letters commenting on the draft Programmatic SEIS during the comment period. Comments on the draft Programmatic SEIS were received from all 50 States, as well as the District of Columbia and Puerto Rico. Citizens from 28 foreign countries also provided comments. Within these 21,361 letters, NMFS identified 4,044 substantive comments.

Based on its review and preliminary analysis of the comments received on the draft Programmatic SEIS, NMFS has made several decisions concerning the draft Programmatic SEIS. First, NMFS has determined that the draft Programmatic SEIS should be revised to include additional analyses concerning environmental, economic and cumulative impacts. Second, NMFS has determined that the alternatives contained in the draft Programmatic SEIS should be restructured, shifting from single-focus alternatives to more comprehensive, multiple-component alternatives. Third, NMFS has determined that the draft Programmatic SEIS should be edited to evaluate more concisely the proposed action. The revisions to the Programmatic SEIS will build from the information and analyses contained in the January 26, 2001, draft Programmatic SEIS. Given its decisions, NMFS has determined that it will release a revised draft Programmatic SEIS for public review and comment before issuing the final Programmatic SEIS.

General Process and Dates for Completion of the Programmatic SEIS

Given the determinations described above, NMFS has decided that a modification to the current schedule for completion of the Programmatic SEIS is appropriate and necessary. The following dates reflect the amount of time that NMFS has determined will be needed to complete the additional analyses and editing of the draft Programmatic SEIS, and to allow for adequate public review and comment on the revised draft Programmatic SEIS, including the restructured alternatives. NMFS will seek assistance and input from the Council and the public in developing the restructured alternatives. It will consider, among other things, several restructured alternatives in the revised draft Programmatic SEIS, including alternatives that were suggested or proposed in comments received on the January 2001 draft Programmatic SEIS and that are developed in conjunction and cooperation with the Council and/or the public.

December 2001 North Pacific Fishery Management Council Meeting

NMFS will present the Council and the public with a preliminary template that describes the framework within which restructured alternatives will be developed.

January Through August 2002

From January through August 2002, NMFS will prepare the revised draft Programmatic SEIS. NMFS will prepare additional analyses concerning environmental, economic and cumulative impacts, restructure the alternatives and prepare an analysis of the effects of those alternatives on the human environment, and edit the Programmatic SEIS to evaluate more concisely the proposed action. As noted above, NMFS will seek assistance and input from the Council and the public in developing the restructured alternatives.

September Through December 2002

From September through December 2002, NMFS will issue a revised draft Programmatic SEIS for a public review and comment period.

January Through August 2003

From January through August 2003, NMFS will prepare the final Programmatic SEIS. NMFS will review and consider public comments received on the revised draft Programmatic SEIS and will present a summary of those comments to the Council and the public.

September 2003

NMFS will issue a final Programmatic SEIS and allow a 30-day public comment period on the final Programmatic SEIS.

No later than December 31, 2003

NMFS will issue a Record of Decision on the Programmatic SEIS.

Authority: 16 U.S.C. 1801 et seq.

Dated: November 20, 2001.
Jon Kurland,
Acting Director, Office of Sustainable Fisheries, National Marine Fisheries Service.

[FR Doc. 01-29497 Filed 11-26-01; 8:45 am]

BILLING CODE 3510-22-S